DEPARTMENT OF AGRICULTURE

Agricultural Marketing Service

[Doc. No. AMS-FV-12-0021]

Processed Raspberry Promotion, Research and Information Program; Request for Extension and Revision of a Currently Approved Information Collection

AGENCY: Agricultural Marketing Service, USDA.

ACTION: Request for comments.

SUMMARY: In accordance with the Paperwork Reduction Act of 1995 (44 U.S.C. Chapter 35), this document announces the Agricultural Marketing Service's (AMS) intention to request approval, from the Office of Management and Budget, for an extension of and revision to the currently approved information collection National Processed Raspberry Promotion, Research, and Information Program.

DATES: Comments on this document must be received by August 20, 2012 to be assured of consideration.

ADDRESSES: Interested persons are invited to submit comments concerning this information collection document. Comments should be submitted online at www.regulations.gov or sent to Promotion and Economics Division, Fruit and Vegetable Program, AMS, U.S. Department of Agriculture (USDA), 1400 Independence Avenue SW., Stop 0244, Room 1406-S, Washington, DC 20250-0244, or by facsimile to (202) 205-2800. All comments should reference the docket number, the date, and the page number of this issue of the Federal Register. All comments received will be posted without change, including any personal information provided, online at http://www.regulations.gov and will be made available for public inspection at the above physical address during regular business hours.

FOR FURTHER INFORMATION CONTACT: Marlene Betts at the above physical address, by telephone at (202) 720-9915, or by email at Marlene.Betts@ams.usda.gov.

SUPPLEMENTARY INFORMATION: Title: National Processed Raspberry Promotion, Research, and Information Program.

OMB Number: 0581-0258.

Expiration Date of Approval: November 30, 2012.

Type of Request: Extension and revision of a currently approved information collection.

Abstract: The Processed Raspberry Promotion, Research, and Information program was created to help maintain, develop, and expand markets and uses for processed raspberries. The Processed Raspberry Promotion, Research, and Information Order (Order) (7 CFR part 1208) was established under the Commodity Promotion, Research, and Information Act of 1996 (1996 Act) (7 U.S.C. 7411-7425).

The Order provides for the development and financing of a coordinated program of research, promotion, and information for processed raspberries. The programs may include projects relating to research, consumer information, advertising, sales promotion, producer information, market development, and product development to assist, improve or promote the marketing, distribution, and utilization of processed raspberries.

The Processed Raspberry Promotion, Research and Information program was approved in a referendum conducted by USDA between June 8 and June 24, 2011, by persons to be covered by and assessed under the Order. In the referendum, 88 percent of those who voted favored implementation of the Order. Producers and importers of 20,000 or more pounds of raspberries for processing or processed raspberries respectively, during the calendar year January 1 through December 31, 2010, were eligible to vote in the referendum.

The program is administered by an industry council appointed by the Secretary of Agriculture and financed by a mandatory assessment on producers of raspberries for processing and importers of processed raspberries. The Secretary of Agriculture also approves the council's budgets, plans, and projects. These responsibilities have been delegated to AMS.

The information collection requirements in this request are essential to carry out the intent of the 1996 Act. The objective in carrying out this responsibility includes assuring the following: (1) Funds are collected and properly accounted for; (2) expenditures of all funds are for the purposes authorized by the 1996 Act and Order; and, (3) the council's administration of the programs conforms to USDA policy.

The Order's provisions have been carefully reviewed, and every effort has been made to minimize any unnecessary recordkeeping costs or requirements, including efforts to utilize information already submitted under other raspberry programs administered by the Department and other state programs.

The forms covered under this collection require the minimum information necessary to effectively carry out the requirements of the program, and their use is necessary to fulfill the intent of the 1996 Act. Such information can be supplied without data processing equipment or outside technical expertise. In addition, there are no additional training requirements for individuals filling out reports and remitting assessments to the Council. The forms are simple, easy to understand, and place as small a burden as possible on the person required to file the information.

Collecting information yearly will coincide with normal industry business practices. The timing and frequency of collecting information are intended to meet the needs of the industry while minimizing the amount of work necessary to fill out the required reports. The requirement to keep records for two years is consistent with normal industry practices. In addition, the information to be included on these forms is not available from other sources because such information relates specifically to individual producers, first handlers, processors, foreign producers, and importers who are subject to the provisions of the 1996 Act. Therefore, there is no practical method for collecting the required information without the use of these forms.

AMS is committed to complying with the E-Government Act, which requires Government agencies in general to provide the public the option of submitting information or transacting business electronically to the maximum extent possible.

Estimate of Burden: Public reporting burden for this collection of information is estimated to average 0.36 hours per response.

Respondents: Producers, first handlers, importers, foreign producers, and at-large nominees.

Estimated Number of Respondents: 297.

Estimated Total Annual Responses: 788.

Estimated Number of Responses per Respondent: 2.65.

Estimated Total Annual Burden on Respondents: 282.

Comments are invited on: (1) Whether the proposed collection of information is necessary for the proper performance of the functions of the agency, including whether the information will have practical utility; (2) the accuracy of the agency's estimate of burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this document will be summarized and included in the request for OMB approval. All comments will become a matter of public record.

Dated: June 15, 2012.
Ruihong Guo,
Acting Administrator.

[FR Doc. 2012-15023 Filed 6-19-12; 8:45 am]

BILLING CODE 3410-02-P